DEPARTMENT OF ENERGY

Federal Energy Regulatory Commission

Alliance Companies et al.; Notice of Non-Decisional Status

May 2, 2002.

In the matter of: Docket No. EL02-65-000, RT01-88-016; RT01-87-000, ER01-3142-000, ER02-106-000, ER02-107-000, ER02-108-000, ER02-111-000, ER02-290-000, ER01-123-000, ER02-484-000, ER02-485-000, ER02-488-000, ER02-652-000, ER02-947-000, ER02-1420-000, ER98-1438-00, ER02-871-000, and ER02-708-000; Alliance Companies; Ameren Services Company on behalf of: Union Electric Company, Central Illinois Public Service Company; American Electric Power Service Corporation on behalf of: Appalachian Power Company, Columbus Southern Power Company, Indiana Michigan Power Company, Kentucky Power Company, Kingsport Power Company, Ohio Power Company, Wheeling Power Company; Dayton Power and Light Company; Exelon Corporation on behalf of: Commonwealth Edison Company, Commonwealth Edison Company of Indiana, Inc.; FirstEnergy Corporation on behalf of: American Transmission Systems, Inc., Cleveland Electric Illuminating Power Company, Ohio Edison Company, Pennsylvania Power Company, Toledo Edison Company; Illinois Power Company; Northern Indiana Public Service Company and National Grid USA; Alliance Companies; Ameren Services Company on behalf of: Union Electric Company, Central Illinois Public Service Company; American Electric Power Service Corporation on behalf of: Appalachian Power Company, Columbus Southern Power Company, Indiana Michigan Power Company, Kentucky Power Company, Kingsport Power Company, Ohio Power Company, Wheeling Power Company; Consumers Energy Company and Michigan Electric Transmission Company; Dayton Power and Light Company; Exelon Corporation on behalf of: Commonwealth Edison Company, Commonwealth Edison Company of Indiana, Inc.; FirstEnergy Corporation on behalf of: American Transmission Systems, Inc., Cleveland Electric Illuminating Power Company, Ohio Edison Company, Pennsylvania Power Company, Toledo Edison Company; Illinois Power Company; Northern Indiana Public Service Company; Virginia Electric and Power Company; Midwest Independent Transmission System Operator, Inc.

Take notice that, for purposes of the above-captioned dockets (and all subdockets in those dockets), Daniel L. Larcamp, Director of the Office of Markets, Tariffs and Rates, is a non-decisional authority and a non-decisional employee. Cf. 18 CFR 385.102(a) (2001) (definition of decisional authority); 18 CFR 385.2201 (2001) (definition of decisional employee).

Linwood A. Watson, Jr.,
Deputy Secretary.

[FR Doc. 02-11401 Filed 5-7-02; 8:45 am]

BILLING CODE 6717-01-P